DEPARTMENT OF DEFENSE

Department of the Army

Availability of Non-Exclusive, Exclusive License or Partially Exclusive Licensing of U.S. Patent Concerning Conductive (Electrical, Ionic and Photoelectric) Membrane Articlers, and Method for Producing Same

AGENCY: Department of the Army, DoD.

ACTION: Notice.

SUMMARY: In accordance with 37 CFR part 404.6, announcement is made of the availability for licensing of U.S. Patent No. US 6,800,155 B2 entitled “Conductive (Electrical, Ionic and Photoelectric) Membrane Articlers, and Method For Producing Same” issued October 5, 2004. This patent has been assigned to the United States Government as represented by the Secretary of the Army.

FOR FURTHER INFORMATION CONTACT: Mr. Robert Rosenkrans at U.S. Army Soldier Systems Center, Kansas Street, Natick, MA 01760, Phone: (508) 233-4928 or E-mail: Robert.Rosenkrans@natick.army.mil.

SUPPLEMENTARY INFORMATION: Any licenses granted shall comply with 35 U.S.C. 209 and 37 CFR Part 404.

Brenda S. Bowen,
Army Federal Register Liaison Officer.

[FR Doc. 04-23232 Filed 10-15-04; 8:45 am]

BILLING CODE 3710-08-M